DEPARTMENT OF DEFENSE

Office of the Secretary

Charter Amendment of Department of Defense Federal Advisory Committees

AGENCY: Department of Defense.

ACTION: Amendment of Federal Advisory Committee.

SUMMARY: The Department of Defense is publishing this notice to announce that it is amending the charter for the Defense Health Board (“the Board”).

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d).

The Board is a discretionary Federal advisory committee that provides independent advice and recommendations to maximize the access to safety and quality of health care for Department of Defense (DoD) health care beneficiaries.

The Board provides the Secretary of Defense and/or the Deputy Secretary of Defense, through the Under Secretary of Defense for Personnel and Readiness (USD(P&R)) and the Assistant Secretary of Defense for Health Affairs, independent advice and recommendations on matters pertaining to: (a) DoD healthcare policy and program management; (b) health research programs; (c) treatment and prevention of disease and injury; (d) promotion of health and wellness within the DoD and the delivery of efficient, effective high-quality health care services to DoD beneficiaries; and (e) other health-related matters of special interest to the DoD, as determined by the Secretary of Defense, the Deputy Secretary of Defense, or the USD(P&R). The Board reports to the Secretary of Defense and/or the Deputy Secretary of Defense, through the USD(P&R). The USD(P&R), pursuant to DoD policy, may act upon the Board's advice and recommendations.

The Board is composed of no more than 19 members who are appointed by the Secretary of Defense or the Deputy Secretary of Defense. The members are eminent authorities in one or more of the following disciplines: Health care research/academia, infectious disease, occupational/environmental health, public health, health care policy, trauma medicine/systems, clinical health care, strategic decision making, bioethics or ethics, beneficiary representative, neuroscience, and behavioral health. The USD(P&R) selects and appoints the Board's President from the total membership approved by the Secretary of Defense or Deputy Secretary of Defense.

Each member, based upon his or her individual professional experience, provides his or her best judgment on the matters before the Board, and he or she does so in a manner that is free from conflict of interest. Board members who are not full-time or permanent part-time Federal officers or employees will be appointed as experts or consultants pursuant to 5 U.S.C. 3109 to serve as special government employee (SGE) members. Board members who are full-time or permanent part-time Federal officers or employees will serve as regular government employee (RGE) members pursuant to 41 CFR 102-3.130(a). No member may serve more than two consecutive terms of service without Secretary of Defense or Deputy Secretary of Defense approval.

Board members are not compensated for service on the Board, but each member is reimbursed for travel and per diem as it pertains to official business of the Board. Pursuant to DoD policies and procedures, the USD(P&R) may appoint experts or consultants with special expertise to assist, on an ad hoc intermittent basis, the Board or its subcommittees on specific issues. These experts or consultants have no voting rights whatsoever and will not engage or participate in any deliberations by the Board or its subcommittees. These experts or consultants, if not full-time or permanent part-time Federal officers or employees, will be appointed pursuant to 5 U.S.C. 3109, serve as SGEs.

The DoD, when necessary and consistent with the Board's mission and DoD policies and procedures, may establish subcommittees, task forces, or working groups to support the Board. Establishment of subcommittees will be based upon a written determination, to include terms of reference, by the Secretary of Defense, the Deputy Secretary of Defense, or the USD(P&R) as the Board's Sponsor.

Such subcommittees will not work independently of the Board and will report all of their recommendations and advice solely to the Board for full and open deliberation and discussion. Subcommittees, task forces, or working groups have no authority to make decisions and recommendations, verbally or in writing, on behalf of the Board. No subcommittee or any of its members can update or report, verbally or in writing, on behalf of the Board, directly to the DoD or any Federal officers or employees. Each member, based upon his or her individual professional experience, provides his or her best judgment on the matters before the Board, and he or she does so in a manner that is free from conflict of interest. All subcommittee members will be appointed by the Secretary of Defense or the Deputy Secretary of Defense to a term of service of one-to-four years, with annual renewals, even if the individual in question is already a member of the Board. Subcommittee member will not serve more than two consecutive terms of service, unless authorized by the Secretary of Defense or the Deputy Secretary of Defense. Subcommittee members who are not full-time or permanent part-time Federal officers or employees will be appointed as experts or consultants pursuant to 5 U.S.C. 3109 to serve as SGE members. Subcommittee members who are full-time or permanent part-time Federal officers or employees will be appointed pursuant to 41 CFR 102-3.130(a) to serve as RGE members. With the exception of reimbursement of official travel and per diem related to the Board or its subcommittees, subcommittee members will serve without compensation. The USD(P&R), as the Board's Sponsor, selects and appoints the Board's subcommittee chairs from the total membership of the subcommittee.

All subcommittees operate under the provisions of FACA, the Sunshine Act, governing Federal statutes and regulations, and established DoD policies and procedures. Currently, DoD has approved the following permanent subcommittees to the Board:

a. Health Care Delivery Subcommittee: This subcommittee is composed of not more than nine members, who are eminent authorities in at least one of the following disciplines: Health care research/academia, strategic decision making, health care policy and clinical health care.

The subcommittee, when tasked according to DoD policies and procedures, provides advice on matters pertaining to health care delivery, to include DoD health care policy and program management, as well as research.

b. Medical Ethics Subcommittee: This subcommittee is composed of not more than five members, who are eminent authorities in at least one of the following disciplines: Strategic decision making, clinical health care, and bioethics or ethics. One member must have formal bioethics or medical ethics training or expertise.

The subcommittee, when tasked according to DoD policies and procedures, provides advice on matters pertaining to medical ethics.

c. Neurological/Behavioral Health Subcommittee: This subcommittee is composed of not more than 10 members, who are eminent authorities in the discipline of neuroscience and behavioral health.

The subcommittee, when tasked according to DoD policies and procedures, provides advice on matters pertaining to psychological/mental health issues and neurological symptoms or conditions among members of the Armed Forces and their families.

d. Public Health Subcommittee: This subcommittee is composed of not more than 10 members, who are eminent authorities in at least one of the following disciplines: Infectious disease, occupational/environmental health, and public health.

The subcommittee, when tasked according to DoD policy and procedures, provides advice on matters pertaining to improving the overall health of members of the Armed Forces and their families through the evaluation of DoD public health programs and initiatives, including education, health promotion, and prevention activities, as well as disease and injury prevention research.

e. Trauma and Injury Subcommittee: This subcommittee is composed of not more than 10 members, who are eminent authorities in the disciplines of trauma medicine and systems.

The subcommittee, when tasked according to DoD policies and procedures, provides advice on matters pertaining to trauma and injury, to include methods for prevention, recognition, clinical management, and treatment.

The Board's Designated Federal Officer (DFO) must be a full-time or permanent part-time DoD officer or employee, designated in accordance with established DoD policies and procedures. The Board's DFO is required to attend at all meetings of the Board and its subcommittee for the entire duration of each and every meeting. However, in the absence of the Board's DFO, a properly approved Alternate DFO, duly designated to the Board according to established DoD policies and procedures, must attend the entire duration of all meetings of the Board and its subcommittees.

The DFO, or the Alternate DFO, calls all meetings of the Board and its subcommittees; prepares and approves all meeting agendas; and adjourns any meeting when the DFO, or the Alternate DFO, determines adjournment to be in the public interest or required by governing regulations or DoD policies and procedures.

Pursuant to 41 CFR 102-3.105(j) and 102-3.140, the public or interested organizations may submit written statements to Defense Health Board's membership about the Board's mission and functions. Written statements may be submitted at any time or in response to the stated agenda of planned meeting of the Board.

All written statements shall be submitted to the DFO for the Board, and this individual will ensure that the written statements are provided to the membership for their consideration. Contact information for the Board's DFO can be obtained from the GSA's FACA Database— http://www.facadatabase.gov/.

The DFO, pursuant to 41 CFR 102-3.150, will announce planned meetings of the Board. The DFO, at that time, may provide additional guidance on the submission of written statements that are in response to the stated agenda for the planned meeting in question.

Dated: May 11, 2015.
Aaron Siegel,
Alternate OSD Federal Register Liaison Officer, Department of Defense.

[FR Doc. 2015-11643 Filed 5-13-15; 8:45 am]

BILLING CODE 5001-06-P